DEPARTMENT OF ENERGY

[Number DE-PS36-04GO94006]

Geothermal Outreach

AGENCY: Golden Field Office, U.S. Department of Energy.

ACTION: Notice of issuance of funding.

SUMMARY: The Department of Energy's (DOE) Office of Energy Efficiency and Renewable Energy (EERE) is seeking applications for communication and outreach projects to supplement the GeoPowering the West (GPW) effort. Through financial assistance awards, DOE intends to provide financial support to States in the Denver and Seattle Regions ONLY, which include Denver (LA, TX, OK, NM, CO, UT, WY, MT, SD, ND, NE) and Seattle (AK, HI, WA, OR, ID, NV, CA, AZ, American Samoa, Guam, and the Northern Mariana Islands) Regions. This program is authorized under provisions of the “Geothermal Energy Research, Development, and Demonstration Act of 1976,” Pub. L. 93-410; Renewable Energy and Energy Efficiency Technology Competitiveness Act of 1989, Pub. L. 101-218; and the Energy Policy Act of 1992, Pub. L. 102-486, Title XII.

DATES: Issuance of the announcement is planned for December 1, 2003.

ADDRESSES: To obtain a copy of the announcement, interested parties should access the DOE Golden Field Office home page at http://www.go.doe.gov/business.html, click on “Funding Announcements,” and then click on access, which, will provide a link to the announcement number in the Industry Interactive Procurement System (IIPS) Web site and provide instructions on using IIPS. The announcement can also be obtained directly through IIPS at http://e-center.doe.gov by browsing opportunities by Contracting Activity, for those announcements issued by the Golden Field Office. DOE will not issue paper copies of the announcement.

IIPS provides the medium for disseminating announcements, receiving financial assistance applications, and evaluating the applications in a paperless environment. The application may be submitted by the applicant or a designated representative that receives authorization from the applicant; however, the application documentation must reflect the name and title of the representative authorized to enter the applicant into a legally binding agreement. The applicant or the designated representative must first register in IIPS, entering their first name and last name, then entering the company name/address of the applicant.

For questions regarding the operation of IIPS, contact the IIPS Help Desk at IIPS_HelpDesk@e-center.doe.gov or at (800) 683-0751.

FOR FURTHER INFORMATION CONTACT: Questions regarding this announcement should be submitted electronically through IIPS by “submitting a question” on the IIPS “Finanicial Assistance Form” specific to this announcement. Response to questions will be posted on IIPS and available through “View Questions.”

Issued in Golden, Colorado, on December 1, 2003.
James P. Damm,
Acting Director, Office of Acquisition and Financial Assistance.

[FR Doc. 03-30611 Filed 12-9-03; 8:45 am]

BILLING CODE 6450-01-P